DEPARTMENT OF COMMERCE

National Oceanic and Atmospheric Administration

Agency Information Collection Activities; Submission to the Office of Management and Budget (OMB) for Review and Approval; Comment Request; Marine Mammal Health MAP Data Forms

AGENCY: National Oceanic & Atmospheric Administration (NOAA), Commerce.

ACTION: Notice of information collection, request for comment.

SUMMARY: The Department of Commerce, in accordance with the Paperwork Reduction Act of 1995 (PRA), invites the general public and other Federal agencies to comment on proposed and continuing information collections, which helps us assess the impact of our information collection requirements and minimize the public's reporting burden. The purpose of this notice is to allow for 60 days of public comment preceding submission of the collection to OMB.

DATES: To ensure consideration, comments regarding this proposed information collection must be received on or before August 15, 2025.

ADDRESSES: Interested persons are invited to submit written comments to Adrienne Thomas, NOAA PRA Officer, at NOAA.PRA@noaa.gov. Please reference OMB Control Number 0648-0178 in the subject line of your comments. Do not submit Confidential Business Information or otherwise sensitive or protected information.

FOR FURTHER INFORMATION CONTACT: Requests for additional information or specific questions related to collection activities should be directed to Stephen Manley, NMFS Office of Protected Resources, 1315 East West Highway, #13604, Silver Spring, MD 20910, (301) 427-8476 or stephen.manley@noaa.gov.

SUPPLEMENTARY INFORMATION:

I. Abstract

This request is for revision and extension of a previously approved data collection (Marine Mammal Health MAP data forms; formerly the Marine Mammal Stranding Reports/Marine Mammal Rehabilitation Disposition Report/Human Interaction Data Sheet).

Under the Marine Mammal Protection Act of 1972 (MMPA), the Secretary of Commerce (Secretary), who has delegated responsibility under this Act to the National Oceanic and Atmospheric Administration (NOAA) Assistant Administrator for Fisheries, is charged with the protection and management of marine mammals (cetaceans and pinnipeds, excluding walrus) and is responsible for collecting information on marine mammal strandings, which will be compiled and analyzed, by region, to monitor species, numbers, conditions, and causes of illnesses and deaths of stranded animals. Under a revision to the MMPA passed in December 2022, the Secretary is also responsible for collection of information on other life history and reference data, including results of tissue analyses from stranded marine mammal if performed.

In addition, under the MMPA, NOAA's National Marine Fisheries Service (NMFS) has the responsibility to make determinations on the sustainability of marine mammal population stocks, on the impact of fisheries and other human activities on marine mammals, and on the health of marine mammals and related environmental considerations. Specifically section 402(b) of the MMPA (16 U.S.C. 1421a) requires the Secretary to collect and update information on strandings. It further provides that the Secretary shall compile and analyze, by region, the species, numbers, conditions, and causes of illnesses and deaths in stranded marine mammals. Section 404 (a) of the MMPA (16 U.S.C. 1421c) mandates that the Secretary respond to unusual marine mammal mortality events. Without a historical baseline, established through the collection of health information from marine mammal stranding events, detection of unusual mortality events could be difficult and investigations could be impeded. Section 401(b) of the MMPA (16 U.S.C. 1421) requires NMFS to facilitate the collection and dissemination of reference data on the health of marine mammal populations in the wild and to correlate health with physical, chemical, and biological environmental parameters.

Section 402 of the MMPA (16 U.S. Code 1421a) was amended by the James M. Inhofe National Defense Authorization Act for Fiscal Year 2023, P. L. 117-263, Div. J, Title CIV. The amendments mandated that the Marine Mammal Health and Stranding Response Program (MMHSRP) shall—“(1) establish a marine mammal health monitoring and analysis platform (Health MAP); “(2) incorporate the Health MAP into the National Integrated Coastal and Ocean Observation System; and “(3) make the Health MAP—“(A) publicly accessible through the web portal of the Observation System; and “(B) interoperable with other national data systems or other data systems for management or research purposes, as practicable.

Additionally, the amendments mandated that Health MAP will collect the following information: (A) data on the stranding event, including NOAA Form 89-864, NOAA Form 89-878, similar successor forms, or similar information in an appropriate format; (B) supplemental data surrounding the event (i.e., weather tides, offshore human activities, morphometric, etc.) that provide context for data collected during stranding events; and (C) data and results from laboratory analyses of tissues. In order to collect this information on a national scale from members of the National Stranding Network and National Entanglement Response Network, NMFS must standardize data collection protocols for additional health parameters and analytic results. Data and samples collected from stranded marine mammals are a critical part of the implementation of this mandate.

Specifically, the data from the new Marine Mammal Health MAP forms provide NMFS with information on the morphology, life history, biology, general health, health and stranding trends, human interactions, causes of mortality, and distribution of stranded marine mammal species. These data provide information which may help in making assessments on the status of population stocks. Recording data on marine mammal strandings and entanglements may serve as an indicator that a particular population is impacted, threatened or at increased risk from a specific threat, and when provided in a timely manner, aid in management practices.

Significant edits to the data collection forms are proposed. This includes the significant reworking of one of the three currently approved forms, the elimination of two of the three currently approved forms, and the creation of eight new forms to respond to the new mandated requirements and improve existing data collection practices. The eight new forms are—(1) a Marine Mammal Report—Basic Data Form, a significant reworking of the existing Level A Stranding Report into a three page form to capture basic data on marine mammal strandings and entanglements (paper and electronic version of the form are proposed), (2) a Morphometrics form for cetaceans and pinnipeds (electronic form only), (3) a Live Animal Evaluation Form, including rehabilitation admission and release exam data (electronic form only); (4) a Dead Animal Examination Form, including gross necropsy findings (electronic form only); (5) Histopathology Form (electronic form only); (6) a Samples Collected Form (electronic form only); (7) a Sample Analysis Results Form (electronic form only) and (8) a Findings Form (electronic form only).

The Marine Mammal Stranding Report—Level A currently serves as the initial report for all marine mammal stranding events and some marine mammal entanglement cases (entangled cetaceans) in the United States, and provides basic health data on these events. This form is generally filled out for every marine mammal stranding case, regardless of whether or not a response was conducted by authorized members of the U.S. Marine Mammal Stranding Response Network. Each of the NMFS regions approves and issues a Stranding Agreement (SA) or other form of agreement to marine mammal rehabilitation centers under § 112(c) of the MMPA, which allows the Secretary to enter into agreements in order to fulfill the general purposes of the Act, and under § 403 of the MMPA, which provides specific authority to enter into such stranding response agreements. A previous renewal of the Stranding Level A form also included the collection of some entanglement data using the Marine Mammal Stranding Report—Level A Form. However, NMFS has determined that this form does not effectively capture the data necessary to appropriately document marine mammal entanglement cases, and is therefore proposing to significantly rework it into a streamlined form, the Marine Mammal Report—Basic Data Form.

This new Basic Data Form combines some data fields from the three forms currently in use for this data collection (Marine Mammal Stranding Report-Level A Data, Marine Mammal Rehabilitation Disposition Report, and Marine Mammal Human Interaction Report). The Basic Data Form will be filled out for all live and dead marine mammal stranding and entanglement events that should be entered into the Health MAP database. The first page of the form will be used for all cases, including both stranded and entangled marine mammals. The second page of the form will be used for all live and dead stranding cases, whether or not a response is conducted. The third page will be used for all entangled animals: including live, entangled marine mammals, whether or not a response is conducted; and for all dead, stranded marine mammals that have gear or marine debris entangling the carcass. Therefore, the first page of the Basic Data Form will be required for all marine mammal cases that must be entered into the Health MAP database. Whereas, the second and third pages will be required depending on the specifics of the case with some cases having data entered on all three pages (e.g., a live stranded sea lion with an entanglement that is admitted to rehabilitation).

The Morphometrics Form will provide NMFS standardized data to provide vital information regarding species differentiation, age class, and growth of cetaceans and pinnipeds. Morphometric data can be actual (physically measured by responders) or estimated. Morphometric data have been primarily collected through direct measurements of dead specimens from whaling, bycatch, and strandings or live individuals in captivity or more rarely collected during capture-release studies. The Morphometrics Form will be required for all marine mammal cases that receive a Marine Mammal Report—Basic Data Form in which measurements beyond straight length are collected. This revision broadened the scope of work and forms recently used. We are also implementing a name change to the information collection title, which will be named “Marine Mammal Health MAP Data Forms”. The new title summarizes the requested revisions and serves as the host for all forms under said collection.

The Live Animal Evaluation Form will provide NMFS with health information on marine mammals during events such as rescues, rehabilitation, and health assessments. If the animal is alive, the animal's health will be assessed by an authorized and trained veterinarian, biologist, or network member. Based on the condition of the live animal, it may be visually assessed only, assessed and immediately released following capture, taken to an authorized rehabilitation facility, or euthanized. Data collected from stranded animals teaches us about interactions between marine mammals and fisheries, vessels, or marine debris, and overall marine mammal population health trends. This Live Animal Evaluation Form will be required for all Code 1 (live) marine mammal cases that receive a Marine Mammal Report—Basic Data Form and which receive a live animal evaluation. For animals that enter rehabilitation and are released after some time in care, the Live Animal Evaluation Form is required to be filled out as a pre-release examination. It may additionally be completed between these two time points (admission into rehabilitation and release) optionally, at the discretion of the Network member.

The Dead Animal Evaluation Form will provide NMFS with significant information regarding the health of the individual animal, the species, and the ocean environment (e.g., harmful algal blooms). Examining the carcass, both externally and internally, collecting samples for analyses, collecting supplemental information about the stranding event, and collecting information on the life history of the animal (reproductive status, nutritional status, food habits, etc.) can provide data on reasons for the stranding and/or death of the animal. Collection of these types of information is highly variable depending on the species, level of examination, state of carcass decomposition, and other factors. Dead Animal Examinations will also be conducted on animals that strand alive and subsequently die, including those that die in rehabilitation. The Dead Animal Examination Form will be required for all marine mammal cases that receive a Marine Mammal Report—Basic Data Form in which the Network conducts a dead animal exam.

The Histopathology Form will provide NMFS with significant information regarding the health of the individual animal, the species, and the ocean environment (e.g., harmful algal blooms). Conducting histopathology on samples collected from live and dead marine mammals can provide data on reasons for the stranding and/or death of the animal. Collection of these types of information is highly variable depending on the species, level of examination, state of carcass decomposition, and other factors. The Histopathology Form will be required for all marine mammal cases that receive a Marine Mammal Report—Basic Data Form in which the Network receives histopathology results.

The Samples Collected Form will provide NMFS with information on samples collected from stranded and entangled marine mammals and where and how they are stored. These samples may then be sent to laboratories or scientists for further analysis and results will be collected in the Sample Analysis Results Form. The Samples Collected Form will be required for all marine mammal cases in which samples were analyzed by the Stranding or Entanglement Response Networks.

The Sample Analysis Results Form will provide NMFS with data from samples tested by a variety of laboratory-based tests, and the results of any analyses of tissues for purposes such as identification of infectious disease, toxins, or parasites. The Sample Analysis Results Form will be required for all marine mammal cases in which results were obtained from samples collected.

The Findings Form will provide NMFS with data from the full case and any significant findings documented including findings that may have led to stranding, injury, illness and/or death in both live and dead animals. The Findings Form will be required for all marine mammal cases that receive a Marine Mammal Report—Basic Data Form and a Live Animal Evaluation Form and/or Dead Animal Evaluation Form.

II. Method of Collection

Paper forms and/or electronic reports are required from participants in the U.S. National Marine Mammal Stranding Response Network and participants in the U.S. National Marine Mammal Entanglement Response Network pursuant to the requirements of the Stranding Agreement or other authorization. Methods of submittal include online submission through the NMFS National Marine Mammal Stranding Database (preferred); facsimile transmission of paper forms; or mailed copies of forms. Submission through the NMFS National Marine Mammal Stranding Database can occur with single entry of cases, batch upload of data from multiple cases, or Application Programming Interface (API), which would allow respondents with internal databases to quickly and seamlessly share their data directly with Health MAP.

III. Data

OMB Number: 0648-0178.

Form Number: 89-864 and 89-878.

Type of Review: Regular submission (revision and extension of a current information collection).

Affected Public: State governments; not-for-profit institutions; business or other for-profits organizations.

Estimated Number of Respondents: 400.

Estimated Time Per Response: 60 minutes for the Marine Mammal Report—Basic Data Form, 10 minutes for the Morphometrics Form, 45 minutes for the Live Animal Evaluation Form, 45 minutes for the Dead Animal Evaluation Form, 10 minutes for the Histopathology Form, 30 minutes for the Samples Collected Form, 30 minutes for the Sample Analysis Results Form, 30 minutes for the Findings Form. The total estimated time if every form needs to be filled out for a case (not common) would be four hours and ten minutes per case. The burden estimate is conservative and based upon respondents filling out all forms individually. However, the database will allow for batch upload of multiple cases, as well as API. Both the API and batch upload functions are expected to streamline the data submission process and should significantly reduce the burden on those organizations that take advantage of these functions. Most forms will be filled out electronically, significantly reducing the financial burden to respondents. We estimate that a small number of the Marine Mammal Report—Basic Data paper forms will be filled out and mailed to NMFS for upload into the electronic database.

Estimated Total Annual Burden Hours: 20,550.

Estimated Total Annual Cost to Public: $117.42 for paper Marine Mammal Report—Basic Data Form submission.

Respondent's Obligation: Mandatory.

Legal Authority: Marine Mammal Protection Act of 1972 (MMPA).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-11069 Filed 6-13-25; 8:45 am]

BILLING CODE 3510-22-P